DEPARTMENT OF EDUCATION

[Docket No.: ED-2025-SCC-1240]

Agency Information Collection Activities; Comment Request; Third Party Servicer Data Collection

AGENCY: Federal Student Aid (FSA), Department of Education (ED).

ACTION: Notice.

SUMMARY: In accordance with the Paperwork Reduction Act (PRA) of 1995, the Department is proposing a revision of a currently approved information collection request (ICR).

DATES: Interested persons are invited to submit comments on or Before February 27, 2026.

ADDRESSES: To access and review all the documents related to the information collection listed in this notice, please use http://www.regulations.gov by searching the Docket ID number ED-2025-SCC-1240. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to Carolyn Rose, U.S. Department of Education, Federal Student Aid, 400 Maryland Avenue SW, Washington, DC 20202-1200.

FOR FURTHER INFORMATION CONTACT: For specific questions related to collection activities, please contact Carolyn Rose, 202-453-5967.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Third Party Servicer Data Collection.

OMB Control Number: 1845-0130.

Type of Review: A revision of a currently approved ICR.

Respondents/Affected Public: Private Sector; Individuals and Households; State, Local, and Tribal Governments.

Total Estimated Number of Annual Responses: 75.

Total Estimated Number of Annual Burden Hours: 48.

Abstract: The Department of Education (the Department) is seeking a revision of the OMB approval of the Third Party Servicer Data Form. This form collects information from third party servicers. The HEA allows institutions of higher education to outsource aspects of their participation in Title IV programs. Any individual or entity that contracts with or performs work on behalf of an institution to administer any aspect of that institution's responsibilities required under the Title IV programs is defined as a third-party servicer. The Title IV regulations authorize the Department to provide oversight of third-party servicers, which are subject to the highest standard of care and diligence in their administration of Title IV programs. (34 CFR 668.2) The information collected through the Third-Party Servicer Data Inquiry form allows the Department to identify institutions of higher education that are failing to report or incorrectly reporting third-party servicer information; to monitor and enforce third-party servicer compliance with annual audit requirements; to identify other persons or organizations that contract with a third-party servicer to assist with any aspect of the administration of a Title IV program on behalf of the third-party servicer or its clients; and to effectively coordinate third-party servicer program review assessments.

Ross Santy,
Chief Data Officer, Office of Planning, Evaluation and Policy Development.

[FR Doc. 2025-23907 Filed 12-23-25; 8:45 am]

BILLING CODE 4000-01-P